DEPARTMENT OF JUSTICE

Notice of Lodging of Proposed Consent Decree Under the Comprehensive Environmental Response, Compensation, and Liability Act

On October 16, 2014 the Department of Justice lodged a proposed Consent Decree with the United States District Court for the Northern District of New York in the lawsuit entitled United States v. Niagara Mohawk Power Corporation, Civil Action No. 1:14-cv-1266.

The proposed Consent Decree would resolve alleged claims of the United States against Niagara Mohawk Power Corporation under Sections 106 and 107 of the Comprehensive Environmental Response, Compensation, and Liability Act.

The proposed settlement addresses the Niagara Mohawk Power Corporation Superfund Site in the City of Saratoga Springs, New York. The consent decree will require Niagara Mohawk to perform the Operable Unit 2 remedial action in accordance with the Record of Decision issued by the Environmental Protection Agency in 2013.

The publication of this notice opens a period for public comment on the Consent Decree. Comments should be addressed to the Assistant Attorney General, Environment and Natural Resources Division, and should refer to United States v. Niagara Mohawk Power Corporation, D.J. Ref. No. 90-11-3-1570/3. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $90.75 (25 cents per page reproduction cost) payable to the United States Treasury. For a paper copy without the exhibits and signature pages, the cost is $11.25.

Robert E. Maher Jr.,
Assistant Section Chief, Environmental Enforcement Section, Environment and Natural Resources Division.

[FR Doc. 2014-25211 Filed 10-22-14; 8:45 am]

BILLING CODE 4410-15-P